DEPARTMENT OF COMMERCE

National Oceanic and Atmospheric Administration

[Docket No. 070727423-7424-01]

RIN 0648-XB75

Endangered and Threatened Species; Notice of Finding on a Petition to List the Lynn Canal Stock of Pacific Herring as a Threatened or Endangered Species

AGENCY: National Marine Fisheries Service (NMFS), National Oceanic and Atmospheric Administration (NOAA), Commerce.

ACTION: Notice of petition finding; request for information; and initiation of status review.

SUMMARY: On April 2, 2007, we, NMFS, received a petition to list the Lynn Canal (Alaska) stock of Pacific herring, Clupea pallasi, as a threatened or endangered species under the Endangered Species Act (ESA). After review, we find that the petition presents substantial scientific and commercial information indicating that the petitioned action may be warranted.

We are initiating a review of the status of the Lynn Canal population of Pacific herring, and we request data, information, and comment on the subject action. Specifically, we are soliciting information regarding population structure and stock delineations of Pacific herring in Southeast Alaska, the Gulf of Alaska, and the North Pacific Ocean; population trends and ecology of Pacific herring in Lynn Canal and Southeast Alaska waters; habitat requirements and current habitat conditions; known and anticipated threats to the viability of the population; and efforts being made to protect the species.

DATES: Information and comments should be submitted to NMFS by December 10, 2007.

ADDRESSES: Data, information, or comments may be submitted to Kaja Brix, Assistant Regional Administrator, Protected Resources Division, Alaska Region, NMFS, Attn: Ellen Sebastian.

Information may be submitted by any of the following methods:

• Mail: P.O. Box 21668, Juneau, AK 99802;

• Hand delivery to the Federal Building: 709 West 9th Street, Juneau, AK, 99802;

• Fax: (907) 586-7557;

• E-mail: LCHERRING@noaa.gov. Include in the subject line of the e-mail the following identifier: Lynn Canal Herring. E-mail comments, with or without attachments, are limited to five megabytes.

Interested persons may obtain a copy of the petition from the above address or online from the NMFS Alaska Region website: http://www.fakr.noaa.gov/protectedresources.

FOR FURTHER INFORMATION CONTACT: Erika Phillips, NMFS Alaska Region, telephone (907) 586-7312, Kaja Brix, NMFS Alaska Region, (907)586-7235, or Marta Nammack, NMFS, Office of Protected Resources, (301) 713-1401.

SUPPLEMENTARY INFORMATION:

Background

Section 4(b)(3)(A) of the Endangered Species Act of 1973, as amended (16 U.S.C. 1531 et seq.) requires that we determine whether or not a petition to list a species presents substantial scientific and commercial information to demonstrate that the petitioned action may be warranted. Joint ESA-implementing regulations between NMFS and U.S. Fish and Wildlife Service (50 CFR 424.14) define “substantial information” as the amount of information that would lead a reasonable person to believe that the measure proposed in the petition may be warranted.

In making a finding on a petition to list a species, the Secretary of Commerce (Secretary) must consider whether the petition: (i) clearly indicates the administrative measure recommended and gives the scientific and any common name of the species involved; (ii) contains detailed narrative justification for the recommended measure, describing, based on available information, past and present numbers and distribution of the species involved and any threats faced by the species; (iii) provides information regarding the status of the species over all or a significant portion of its range; and (iv) is accompanied by the appropriate supporting documentation in the form of bibliographic references, reprints of pertinent publications, copies of reports or letters from authorities, and maps (50 CFR 424.14(b)(2)). To the maximum extent practicable, this finding is to be made within 90 days of the date the petition was received, and the finding is to be published promptly in the Federal Register. When it is found that substantial information is presented in the petition, we are required to promptly commence a review of the status of the species concerned. Within 1 year of receipt of the petition, we shall conclude the review with a finding as to whether or not the petitioned action is warranted.

On April 2, 2007, we received a petition to designate the Lynn Canal Stock of Pacific herring (Clupea pallasi) as a Distinct Population Segment (DPS) and to list the DPS as threatened or endangered under the ESA. The petition was submitted by the Juneau Group of the Sierra Club, Juneau, Alaska. The Petitioner also requested that critical habitat be designated for Lynn Canal Pacific herring concurrent with listing under the ESA. The petitioner may provide information that describes any recommended critical habitats to boundaries and physical features, and indicates any benefits and/or adverse effects on the species that would result from such designation. Such information, however, will not be the basis for the determination of the substantiality of the petition (50 CFR 424.14(b)(2)(iv)).

We have reviewed the petition, the literature cited in the petition, and other literature and information available in our files. On the basis of that information, we find that the petition meets the aforementioned requirements of the regulations under 50 CFR 424.14(b)(2) and therefore determine that the petition presents substantial information indicating that the requested listing action may be warranted. Our finding is based in part on: (1) documented population trends, which indicate an 85 percent decline in estimated biomass since the 1970s; (2) evidence that the Lynn Canal population has remained depressed for more than 2 decades, failing to show signs of rebound despite closure of the commercial fishery from 1982 to present; (3) documented losses of spawning habitat and abandonment of degraded spawning grounds at the southern end of the historic spawning range for the stock, such that spawning activity is compressed to the area in and around Berners Bay, Alaska; and (4) proposed development activities in Lynn Canal, including Berners Bay, that threaten to further modify or curtail the population's habitat and spawning range. Specifically, our analysis of available data on Lynn Canal herring from 1971 through 2002 indicates that spawning biomass declined from an average of 4866 tons for the period from1972 through1980 to an average of 692 tons of spawning biomass for the period from 1990 through 2002. This suggests that Lynn Canal spawning biomass has declined approximately 85 percent since the 1970s. These biomass estimates are based on measurements of shoreline miles of spawn, which have declined from an average of 12 nautical miles from 1953 through 1981 down to an average of 3.5 nautical miles from 1982 through 2003.

Stock Structure and Distinct Population Segments for Pacific Herring

The petitioner provided references that demonstrate that natural stock structure exists for Pacific herring in the Gulf of Alaska and the northern Pacific Ocean. The petitioner also noted that life history differences (e.g., spawning timing, seasonal migration patterns, length-at-age and growth rates), morphological distinctions, and geographic isolation may contribute to population discreteness. Pacific herring stocks in Southeast Alaska have not been examined in detail for population discreteness, but several studies conducted in the North Pacific may help shed light on whether DPSs are present in Southeast Alaska.

2001 Status Review of Pacific Herring

In 2001, we completed a status review of Pacific herring in response to a petition to list 18 species of marine fishes in Puget Sound, including Pacific herring. Through that process, the Biological Review Team (BRT) reviewed Pacific herring life history, genetics data, information on larval distribution and transport, tagging studies and other information on herring stocks throughout the eastern North Pacific. The BRT concluded that the Pacific herring stocks in Puget Sound do not constitute a DPS as defined under the ESA, but instead are part of a larger, regional Georgia Basin DPS. The Georgia Basin DPS extends from the southern end of Puget Sound to the northern end of the Strait of Georgia and the north end of Vancouver Island and includes the Strait of Juan de Fuca. The BRT did not analyze or describe additional DPS structure beyond the Georgia Basin region.

2005 Status Review of the Cherry Point Stock of Pacific Herring

In 2005, we completed a status review for the Cherry Point stock of Pacific herring in response to a petition to list the stock as a threatened or endangered DPS under the ESA. The BRT based its DPS analysis on the findings of the 2001 Pacific herring status review and new information, including new genetics data. Through the 2005 status review process, the BRT determined that the Cherry Point stock is not a separate DPS, but instead is part of the larger Georgia Basin Pacific herring DPS. Although some of the life history and genetics data analyzed by the BRT included information on Pacific herring stocks in Southeast Alaska, the team did not describe additional DPS structure beyond the Georgia Basin region.

Status Review for Lynn Canal Pacific Herring

Subsequent to publishing this finding, we will commence a status review to determine whether the petitioned action is warranted. To ensure that the review is complete and is based on the best available scientific and commercial data, we request any available information regarding the taxonomy and status of the Lynn Canal stock of Pacific herring, its habitat, biology, movements and distribution, stock structure and age composition, threats to the species, or other pertinent information.

Authority

The authority for this action is the Endangered Species Act of 1973, as amended (16 U.S.C. 1531 et seq.).

Dated: September 4, 2007.
Samuel D. Rauch III,
Deputy Assistant Administrator for Regulatory Programs, National Marine Fisheries Service.

[FR Doc. E7-17779 Filed 9-7-07; 8:45 am]

BILLING CODE 3510-22-S